DEPARTMENT OF TRANSPORTATION

Federal Motor Carrier Safety Administration

49 CFR Part 367

[Docket No. FMCSA-2007-27871]

RIN 2126-AB09

Fees for Unified Carrier Registration Plan and Agreement; Correction

AGENCY: Federal Motor Carrier Safety Administration (FMCSA), DOT.

ACTION: Notice of proposed rulemaking; correction.

SUMMARY: On May 29, 2007, (72 FR 29472), FMCSA published a proposed rule in the Federal Register that would establish annual fees and a fee bracket structure for the Unified Carrier Registration Agreement. This action is required under the Unified Carrier Registration Act of 2005, enacted as Subtitle C of the Safe, Accountable, Flexible, Efficient Transportation Equity Act: A Legacy for Users. This document corrects some errors in that proposed rule.

DATES: The comment period has not changed. You must submit comments on the proposed rule on or before June 13, 2007.

FOR FURTHER INFORMATION CONTACT: Mr. David Miller, Regulatory Development Division, (202) 366-5370 or by e-mail at: FMCSAregs@DOT.gov.

SUPPLEMENTARY INFORMATION: The Federal Motor Carrier Safety Administration (FMCSA) published a proposed rule in the Federal Register of May 29, 2007 (72 FR 29472). That document proposed to establish fees and a fee bracket structure for the Unified Carrier Registration Agreement. Inadvertently, there were a number of errors in the preamble of that document.

In proposed rule FR Doc. 07-2652, beginning on page 29472 in the issue of May 29, 2007, make all the following corrections.

1. On page 29472, beginning in the first column, correct the Addresses section to read:

ADDRESSES: You may submit comments, identified by DOT DMS Docket Number FMCSA-2007-27871, by any of the following methods:

• Federal eRulemaking Portal: http://www.regulations.gov. Follow the instructions for submitting comments.

• Agency Web Site: http://dms.dot.gov. Follow the instructions for submitting comments on the DOT electronic docket site. Note: Due to the relocation of the U.S. Department of Transportation, the DOT electronic docket site will not be available between June 13 and June 17, 2007. During this time you may submit comments by one of the alternate methods listed.

• Fax: 1-202-493-2251.

• Mail: U.S. Department of Transportation, Docket Operations, M-30, West Building Ground Floor, Room W12-140, 1200 New Jersey Ave., SE., Washington, DC 20590.

• Hand Delivery: U.S. Department of Transportation, West Building Ground Floor, Room W12-140, 1200 New Jersey Ave., SE., Washington, DC 20590, between 9 a.m. and 5 p.m., e.t., Monday through Friday, except Federal holidays.

Instructions: All submissions must include the agency name and docket number (FMCSA-2007-27871). Note that all comments received will be posted without change to http://dms.dot.gov, including any personal information provided. Please see the Privacy Act heading for further information.

Docket: For access to the docket to read background documents or comments received, go to http://dms.dot.gov at any time or to U.S. Department of Transportation, West Building Ground Floor, Room W12-140, 1200 New Jersey Ave., SE, Washington, DC 20590, between 9 a.m. and 5 p.m., e.t., Monday through Friday, except Federal holidays.

Privacy Act: Anyone is able to search the electronic form for all comments received into any of our dockets by the name of the individual submitting the comment (or signing the comment, if submitted on behalf of an association, business, labor union, etc.). You may review DOT's complete Privacy Act Statement in the Federal Register published on April 11, 2000 (65 FR 19477) or you may visit http://dms.dot.gov.

Comments received after the comment closing date will be included in the docket and we will consider late comments to the extent practicable. FMCSA may, however, issue a final rule at any time after the close of the comment period.

Correct the SUPPLEMENTARY INFORMATION section by making all of the following changes.

2. On page 29472, in the third column, add this sentence to the end of the I. Legal Basis for the Rulemaking section, immediately above the II. Statutory Requirements for UCR Fees heading:

Because of this very short time period set by the statute to complete the rulemaking, the comment period for this notice of proposed rulemaking will be fifteen days.

3. On page 29472, in the third column, in the first sentence under the II. Statutory Requirements for UCR Fees heading, correct the U.S.C. reference to read: “(see 49 U.S.C. 14504a(d)(7)(A), (f)(1) and (g))''.

4. On page 29478, under the heading E. Carrier Population, in the third column, change three numbers to correct an arithmetical error. On line 14, correct “6,647” to “6,665” wherever it appears. On lines 27 and 32, correct “2,532” to “2,550” wherever it appears. On line 33, correct “2,582” to “2,600.”

5. On page 29480, in the third column, under the heading National Environmental Policy Act, correct the reference on line 4 that reads “(42 D.S.C. 4321 et seq.)” to read “(42 U.S.C. 4321 et seq.)” and the reference on line 20 that reads “(42 D.S.C. 7401 et seq.)” to read “(42 U.S.C. 7401 et seq.)''.

6. On page 29481, in the first column, on line 5 under the heading Executive Order 13211 (Energy Effects), correct “VSE” to read “Use.”

Issued on: May 31, 2007.
William A. Quade,
Acting Associate Administrator for Enforcement and Program Delivery.

[FR Doc. 07-2787 Filed 5-31-07; 3:23 pm]

BILLING CODE 4910-EX-P